NATIONAL TRANSPORTATION SAFETY BOARD

Agency Recordkeeping/Reporting Requirements Under Review by the Office of Management and Budget (OMB)

The National Transportation Safety Board intends to submit the following (see below) public information collection request (ICR) to the Office of Management and Budget (OMB) for review and clearance under the paperwork reduction Act of 1995 (Pub. L. 104-13, 44 U.S.C. Chapter 35). OMB approval is being requested concurrently with this submission. A copy of this individual ICR, with applicable supporting documentation, may be obtained by calling the National Transportation Safety Board Departmental Clearance Officer, Deborah Bruce (202) 314-6511. Comments and questions about the ICR listed below should be directed to the Office of Information and Regulatory Affairs, Attn: OMB Desk Officer for the National Transportation Safety Board, Office of Management and Budget, Room 10102, 725 17th Street, NW., Washington, DC 20503.

Agency: National Transportation Safety Board.

Title: Pilot/Operator Aircraft Accident/Incident Report.

OMB Number: 3147-0001.

Frequency: On occasion.

Affected Public: Individuals, businesses (for and not for profit), Governments (State, local, and Tribal).

Number of Respondents: 2,100.

Estimated time per respondent: 60 minutes.

Total Burden Hours: 2,100.

Description: The National Transportation Safety Board is required to investigate aviation accidents and certain incidents as stated in the 49 Code of Federal Regulations Part 830. Entities having a reportable accident/incident are required to report the details pertaining to the event to the Safety Board. To ensure pertinent data is collected, the Board uses a standard form for reporting the accident/incident.

The National Transportation Safety Board is seeking clearance to use the Pilot/Operator Aircraft Accident/Incident Report to help determine the facts, conditions, and circumstances of aviation accidents/incidents in order to facilitate prevention strategies and maintain statistics on aviation safety.

Dated: November 18, 2004.
Vicky D'Onofrio,
Federal Register Liaison Officer.

[FR Doc. 04-26053 Filed 11-23-04; 8:45 am]

BILLING CODE 7533-01-M